DEPARTMENT OF HOMELAND SECURITY

Coast Guard

33 CFR Part 110

[Docket Number USCG-2023-0868]

RIN 1625-AA01

Anchorage Regulations; Los Angeles and Long Beach Harbors, California

AGENCY: Coast Guard, DHS.

ACTION: Notice of proposed rulemaking.

SUMMARY: The Coast Guard is proposing to amend the regulations for Los Angeles and Long Beach Harbors. This action would amend Anchorages F and G, and update anchorage usage and communication requirements. The purpose of this proposed rule is to improve navigation safety by modifying Anchorage F and G to accommodate an increased volume of vessel traffic and larger vessels calling on the Ports of Los Angeles and Long Beach and alleviate vessels anchoring near a subsea pipeline. We invite your comments on this proposed rulemaking.

DATES: Comments and related material must be received by the Coast Guard on or before July 22, 2024.

ADDRESSES: You may submit comments identified by docket number USCG-2023-0868 using the Federal Decision Making Portal at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: For information about this document call or email Rubymar Sebastian-Echevarria at D11 Waterways, Coast Guard; telephone (571) 613-2930 or (206) 820-5620, email D11-DG-D11-Waterways@uscg.mil.

SUPPLEMENTARY INFORMATION:

Table of Contents for Preamble

I. Public Participation and Request for Comments

II. Abbreviations

III. Background, Purpose, and Legal Basis

IV. Discussion of Proposed Rule

V. Regulatory Analyses

A. Regulatory Planning and Review

B. Small Entities

C. Collection of Information

D. Federalism

E. Unfunded Mandates

F. Taking of Private Property

G. Civil Justice Reform

H. Protection of Children

I. Indian Tribal Governments

J. Energy Effects

K. Technical Standards

L. Environment

M. Protest Activities

I. Public Participation and Request for Comments

The Coast Guard views public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision Making Portal at https://www.regulations.gov. To do so, go to https://www.regulations.gov, type USCG-2023-0868 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. That FAQ page also explains how to subscribe for email alerts that will notify you when comments are posted or if a final rule is published. We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

Public meeting. We do not plan to hold a public meeting but we will consider doing so if we determine from public comments that a meeting would be helpful. We would issue a separate Federal Register notice to announce the date, time, and location of such a meeting.

II. Abbreviations

DHS Department of Homeland Security

FR Federal Register

NPRM Notice of proposed rulemaking

OMB Office of Management and Budget

§ Section

U.S.C. United States Code

III. Background, Purpose, and Legal Basis

The Coast Guard proposes to amend Anchorages F and G in Los Angeles and Long Beach Harbors to improve navigation safety and update anchorage usage and communication requirements. The legal basis and authorities for this notice of proposed rulemaking are found in 46 U.S.C. 70006, 33 CFR 109.05, 33 CFR 1.05-1, and DHS Delegation No. 00170.1 Revision 01.3, which collectively authorize the Coast Guard to propose, establish, and define regulatory anchorage grounds. Under Title 33 of the Code of Federal Regulation (CFR) § 109.05, U.S. Coast Guard District Commanders are delegated the authority to establish anchorage grounds by the Commandant of the U.S. Coast Guard. The Coast Guard established Anchorage Grounds under Title 33 CFR CGFR 67-46, 32 FR 17728, Dec. 12, 1967, as amended by CGD11-04-005, 71 FR 15036, Mar. 27, 2006.

IV. Discussion of Proposed Rule

The Coast Guard proposes to amend the boundaries and anchorage requirements for Anchorages F and G in Los Angeles and Long Beach Harbors. Changes in global demand patterns and supply chain disruptions have contributed to port congestion and increased usage of Anchorages F and G. Due to economies of scale, vessels calling on the Ports of Los Angeles and Long Beach have increased in size and require more surface area for anchoring and maneuvering. Additionally, a subsea pipeline is located approximately less than one nautical mile from the anchorages. For these reasons, the Coast Guard proposes expanding the distance between anchorages and requiring vessels greater than 1600 gross tons to place their propulsion plants in standby and have a second anchor ready to let go when forecasted and/or observed wind speeds and gusts are 35 knots or greater. This proposed requirement is needed to prevent vessels from dragging anchor and to prevent harm to vessels, the port, and the environment. The proposed regulation would update port, pilot, and communication information to maintain proactive anchorage management.

The specific anchorage boundaries and amendments are described in detail in the proposed regulatory text at the end of the document.

V. Regulatory Analyses

We developed this proposed rule after considering numerous statutes and Executive orders related to rulemaking. A summary of our analyses based on these statutes or Executive orders follows.

A. Regulatory Planning and Review

Executive Orders 12866 and 13563 direct agencies to assess the costs and benefits of available regulatory alternatives and, if regulation is necessary, to select regulatory approaches that maximize net benefits. This NPRM has not been designated a “significant regulatory action” under section 3(f) of Executive Order 12866, as amended by Executive Order 14094 (Modernizing Regulatory Review). Accordingly, the NPRM has not been reviewed by the Office of Management and Budget (OMB).

This proposed regulatory action determination is based on the need to maintain navigation safety within the port by amending the boundaries of Anchorages F and G and updating anchorage usage and communication requirements. The proposed action would not negatively impact navigation. Vessels would still be able to maneuver in, around and through anchorages.

B. Small Entities

Under the Regulatory Flexibility Act, 5 U.S.C. 601-612, we have considered whether this proposed rule would have a significant economic impact on a substantial number of small entities. The term “small entities” comprises small businesses, not-for-profit organizations that are independently owned and operated and are not dominant in their fields, and governmental jurisdictions with populations of less than 50,000. While some owners or operators of vessels intending to transit the anchorage grounds may be small entities, for the reasons stated in section V.A. above, this proposed rule would not have a significant economic impact on any vessel owner or operator.

Therefore, the Coast Guard certifies under 5 U.S.C. 605(b) that this proposed rule would not have a significant economic impact on a substantial number of small entities. If you think that your business, organization, or governmental jurisdiction qualifies as a small entity and that this proposed rule would have a significant economic impact on it, please submit a comment to the docket at the address listed in the ADDRESSES section of this preamble. In your comment, explain why you think it qualifies and how and to what degree this proposed rule would economically affect it.

C. Collection of Information

This proposed rule would call for no new collection of information under the Paperwork Reduction Act of 1995, 44 U.S.C. 3501-3520.

D. Federalism

A rule has implications for federalism under Executive Order 13132 (Federalism) if it has a substantial direct effect on States, on the relationship between the National Government and the States, or on the distribution of power and responsibilities among the various levels of government. We have analyzed this proposed rule under Executive Order 13132 and have determined that it is consistent with the fundamental federalism principles and preemption requirements described in Executive Order 13132. Our analysis follows.

The legal basis and authorities for this notice of proposed rulemaking are found in 46 U.S.C. 70006, 33 CFR 109.05, 33 CFR 1.05-1, and DHS Delegation No. 00170.1, which collectively authorize the Coast Guard to propose, establish, and define regulatory anchorage grounds. Therefore, this proposed rule is consistent with the fundamental federalism principles and preemption requirements described in Executive Order 13132.

E. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100 million (adjusted for inflation) or more in any one year. Although this proposed rule would not result in such an expenditure, we do discuss the potential effects of this proposed rule elsewhere in this preamble.

F. Taking of Private Property

This proposed rule would not cause a taking of private property or otherwise have taking implications under Executive Order 12630 (Governmental Actions and Interference with Constitutionally Protected Property Rights).

G. Civil Justice Reform

This proposed rule meets applicable standards in sections 3(a) and 3(b)(2) of Executive Order 12988, (Civil Justice Reform), to minimize litigation, eliminate ambiguity, and reduce burden.

H. Protection of Children

We have analyzed this proposed rule under Executive Order 13045 (Protection of Children from Environmental Health Risks and Safety Risks). This proposed rule is not an economically significant rule and would not create an environmental risk to health or risk to safety that might disproportionately affect children.

I. Indian Tribal Governments

This proposed rule does not have tribal implications under Executive Order 13175 (Consultation and Coordination with Indian Tribal Governments), because it would not have a substantial direct effect on one or more Indian tribes, on the relationship between the Federal Government and Indian tribes, or on the distribution of power and responsibilities between the Federal Government and Indian tribes. If you believe this proposed rule has implications for Indian Tribes, please call or email the person listed in the FOR FURTHER INFORMATION CONTACT section.

J. Energy Effects

We have analyzed this proposed rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

K. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (for example, specifications of materials, performance, design, or operation; test methods; sampling procedures; and related management systems practices) that are developed or adopted by voluntary consensus standards bodies.

This proposed rule does not use technical standards. Therefore, we did not consider the use of voluntary consensus standards.

L. Environment

We have analyzed this proposed rule under Department of Homeland Security Management Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves the amendment of anchorages. This proposed rule would be categorically excluded under paragraph L59(a) of Appendix A, Table 1 of DHS Instruction Manual 023-01-001-01, Rev. 1. A preliminary Record of Environmental Consideration supporting this determination is available in the docket. For instructions on locating the docket, see the ADDRESSES section of this preamble.

M. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 110 Anchorage Grounds.

For the reasons discussed in the preamble, the Coast Guard is proposing to amend 33 CFR part 110 as follows:

PART 110—Anchorage Regulations

1. The authority citation for part 110 is revised to read as follows:

Authority: 33 U.S.C. 2071, 46 U.S.C. 70006, 70034; 33 CFR 1.05-1; Department of Homeland Security Delegation No. 00170.1, Revision No. 01.3.

2. Amend § 110.214, by revising and republishing paragraphs (a)(1)(i), (ii), (a)(2)(i)(B), (a)(3), (b)(6), (7), and (c)(2) to read as follows:

§ 110.214 Los Angeles and Long Beach harbors, California.

(a) * * *

(1) * * *

(i) Unless otherwise directed by the Captain of the Port Los Angeles—Long Beach, the Long Beach Port Pilots will assign all anchorages inside the federal breakwater. All anchorages outside (seaward) of the federal breakwater will be assigned by Vessel Traffic Service Los Angeles-Long Beach (VTS LA-LB). The master, pilot, or person in charge of a vessel must notify the Long Beach Pilots (for anchorages inside the federal breakwater) or VTS LA-LB (for anchorages outside the federal breakwater) of their intention to anchor, upon anchoring, and at least fifteen minutes prior to departing an anchorage. All anchorage assignments will be made as described in this part unless modified by the Captain of the Port.

(ii) Radio communications for port entities governing anchorages are as follows: VTS LA-LB, call sign “San Pedro Traffic”, Channel 14 VHF-FM; Long Beach Port Pilots, call sign “Long Beach Pilots”, Channel 12 VHF-FM.

* * * * *

(2) * * *

(i) * * *

(B) No vessel may anchor anywhere else within Los Angeles or Long Beach harbors (inside the federal breakwater) for more than 10 consecutive days unless extended anchorage permission is obtained from the Captain of the Port. In determining whether extended anchorage permission will be granted, consideration will be given, but not necessarily limited to: The current and anticipated demands for anchorage space within the harbor, the requested duration, the condition of the vessel, and the reason for the request.

* * * * *

(3) Other General Requirements.

(i) When at anchor, all commercial vessels greater than 1600 gross tons shall, at all times, have a licensed or credentialed deck officer on watch and maintain a continuous radio listening watch unless subject to one of the exemptions in this paragraph. The radio watch must be on CH-12 VHF-FM when anchored inside the federal breakwater, and on CH-14 VHF-FM when anchored outside the federal breakwater, except for unmanned barges; vessels which have less than 100 gallons of oil or fuel onboard regardless of how the fuel is carried; and other vessels receiving advance approval from the Captain of the Port.

(ii) When winds are forecasted and/or observed at 35 knots or greater (including wind gusts) vessels shall ensure their propulsion plant is placed in immediate standby and a second anchor, if installed, is made ready to let go. Vessels unable to comply with this requirement must immediately notify the Captain of the Port. In such case, the Captain of the Port may require additional precautionary measures, including but not limited to one or more tugs standing by to render immediate assistance.

* * * * *

(b) * * *

(6) Commercial Anchorage F (outside of Long Beach Breakwater). The waters southeast of the Long Beach Breakwater bounded by a line connecting the following coordinates:

| Latitude | Longitude
Beginning Point | 33-43′ 6″ N | 118-8′ 6″ W
Thence west to | 33-43′ 6″ N | 118-10′ 30″ W
Thence south/southeast to | 33-42′ 12″ N | 118-9′ 54″ W
Thence south/southeast to | 33-40′ 54″ N | 118-9′ 30″ W
Thence south/southeast to | 33-38′ 36″ N | 118-7′ 42″ W
Thence north/northeast to | 33-40′ 42″ N | 118-6′ 54″ W

And thence north/northwest to the beginning point.

(7) Commercial Anchorage G (outside of the Middle Breakwater). The waters south of the Middle Breakwater bounded by a line connecting the following coordinates:

| Latitude | Longitude
Beginning Point | 33-43′ 6″ N | 118-11′ 18″ W
Thence west to | 33-43′ 6″ N | 118-12′ 18″ W
Thence south/southwest to | 33-42′ 24″ N | 118-14′ 18″ W
Thence southeast to | 33-40′ 48″ N | 118-13′ 0″ W
Thence northeast | 33-41′ 0″ N | 118-12′ 18″ W
Thence east/northeast to | 33-42′ 12″ N | 118-11′ 36″ W

And thence north/northeast to the beginning point.

* * * * *

(c) * * *

(2) The geographic boundaries of each anchorage are contained in paragraph (b) of this section.

Table 110.214(c)
Anchorage | General location | Purpose | Specific regulations
A | Los Angeles Harbor | Commercial | Note a.
B | Long Beach Harbor | ......do | ......Do.
C | ......do | ......do | Notes a, g.
D | ......do | Commercial & Naval | Notes a, b, g.
E | ......do | Commercial | Note c.
F | Outside Breakwater | ......do | Notes c, d, g.
G | ......do | ......do | Notes c, d.
N | Los Angeles Harbor | Small Craft | Note e.
P | Long Beach Harbor | ......do | Note f.
Q | ......do | ......do | Notes c, g.
Notes:
a. Bunkering and lightering are permitted.
b. West of 118°-09′-48″ W priority for use of the anchorage will be given to commercial vessels over 244 meters (approximately 800 feet). East of 118°-09′-48″ W priority for use of the anchorage will be given to Naval and Public vessels, vessels under Department of Defense charter, and vessels requiring use of the explosives anchorage.
c. Bunkering and lightering are prohibited.
d. This anchorage is within a Regulated Navigation Area and additional requirements apply as set forth in 33 CFR 165.1109(e).
e. This anchorage is controlled by the Los Angeles Port Police. Anchoring, mooring and recreational boating activities conforming to applicable City of Los Angeles ordinances and regulations are allowed in this anchorage.
f. This anchorage is controlled by the Long Beach Harbor Master. Anchoring, mooring and recreational boating activities conforming to applicable City of Long Beach ordinances and regulations are allowed in this anchorage.
g. When the explosives anchorage is activated portions of this anchorage lie within the explosives anchorage and the requirements of paragraph (d) of this section apply.

* * * * *

Dated: April 16, 2024.
Andrew M. Sugimoto,
Rear Admiral, U.S. Coast Guard, Commander, Eleventh Coast Guard District.

[FR Doc. 2024-08636 Filed 4-22-24; 8:45 am]

BILLING CODE 9110-04-P